DEPARTMENT OF TRANSPORTATION

National Highway Traffic Safety Administration

[Docket No. NHTSA 2000-7739; Notice 1]

Utilimaster Corporation; Receipt of Application for Decision of Inconsequential Noncompliance

Utilimaster Corporation has determined that some of the 2730 walk-in van trucks that it manufactured during the period September 30, 1997 through October 6, 1999, contain a noncompliance with Federal Motor Vehicle Safety Standard (FMVSS ) 108, “Lamps, Reflective Devices, and Associated Equipment.”

Pursuant to 49 U.S.C. 30118(d) and 30120(h), Utilimaster has petitioned for a determination that this condition is inconsequential to motor vehicle safety and has filed an appropriate report pursuant to 49 CFR Part 573, “Defect and Noncompliance Reports.”

This notice of receipt of an application is published under 49 U.S.C. 30118 and 30120 and does not represent any agency decision or other exercise of judgment concerning the merits of the application.

The noncompliant trucks, supplied to fleet accounts, have light emitting diode (LED) front clearance and identification lamps mounted at a 30-degree set-back position. At least a portion of these lamps do not comply with the 0.62 candela requirement at 20-degrees down. The noncompliance involves two of the required test points of Standard 108.

Utilimaster believes that this noncompliance with FMVSS 108 is inconsequential to motor vehicle safety. Its reasoning is that the lighting array and coverage of the clearance, identification, sidemarker and parking lamps on the subject vehicles provide (and even exceed) the requisite outboard visibility under FMVSS 108. Although the clearance and identification lamps on the subject walk-in van vehicles do not meet two requirements of FMVSS 108, Utilimaster believes that the system of lighting as installed on these vehicles meets the intent of FMVSS 108 for the purpose of providing a visually safe vehicle. Utilimaster bases its position on the fact that the company is using a front turn signal and parking lamp which is actually designed to meet the greater photometric angles required of turn signal and clearance lamp applications.

More specifically, the front turn signal and parking lamps mounted on each side of the front of the walk-in vans provide light out to a 45-degree angle both left and right instead of the 20-degree angle left and right required for parking lamps. The light intensity at these greater angles (45 degrees) is 50 percent greater than that required for clearance lamps (0.93 cd min. compared with 0.62 cd min. required). In addition, these front turn signal/parking lamps are mounted low on the subject vehicles so that the light output covers the lower angles where the clearance and identification lamps are deficient. Further, the front sidemarker lamps cover the 45 degree to the front to 45 degree to the rear low angles of light, so that there is not any degradation of visibility to the side of the vehicle. The light from the sidemarker lamps exactly parallels the outboard light from the parking lamps.

The petitioner believes that the noncompliance in no way compromises the safety of vehicles on which the clearance and identification lamps have been installed as original equipment. The lighting system as a whole on these vehicles provides functionally equivalent lighting to FMVSS 108 requirements.

Interested persons are invited to submit written data, views, and arguments on the application described above. Comments should refer to the docket number and be submitted to : U.S. Department of Transportation, Docket Management, Room PL-401, 400 Seventh Street, SW., Washington, D.C., 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: September 13, 2000.

(49 U.S.C. 301118, 301120; delegations of authority at 49 CFR 1.50 and 501.8)
Issued on: August 8, 2000.
Stephen R. Kratzke,
Associate Administrator for Safety Performance Standards.

[FR Doc. 00-20600 Filed 8-11-00; 8:45 am]

BILLING CODE 4910-59-P